DEPARTMENT OF DEFENSE

Defense Information Systems Agency

Privacy Act of 1974; System of Records

AGENCY: Defense Information Systems Agency, DoD.

ACTION: Notice to add a system of records; K890.08—Recall Roster/Locator Records.

SUMMARY: The Defense Information Systems Agency proposes to add a system of records notice to its inventory of record systems subject to the Privacy Act of 1974 (5 U.S.C. 552a), as amended.

DATES: This proposed action will be effective without further notice on June 22, 2005, unless comments are received which result in a contrary determination.

ADDRESSES: Send comments to the Defense Information Systems Agency, Attn: Records Manager (SPI21), P.O. Box 4520, Arlington, VA 22204-4502.

FOR FURTHER INFORMATION CONTACT: Ms. Jeanette Jenkins at (703) 681-2103.

SUPPLEMENTARY INFORMATION: The Defense Information Systems Agency systems of records notices subject to the Privacy Act of 1974, (5 U.S.C. 552a), as amended, have been published in the Federal Register and are available from the address above.

The proposed system report, as required by 5 U.S.C. 552a(r) of the Privacy Act, was submitted on May 4, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996, (61 FR 6427, February 20, 1996).

Dated: May 18, 2005.
Jeannette Owings-Ballard,
OSD Federal Register Liaison Officer, Department of Defense.

K890.08

System name:

Recall Roster/Locator Records.

System location:

Defense Information Systems Agency (DISA), ATTN: SPI21, P.O. Box 4502, Arlington, VA 22204-4502 and DISA organizations elements.

Categories of individuals covered by the system:

DISA Civilian employees, Military personnel assigned or detailed to DISA, and Contractors assigned to all DISA elements, including DISA field activities. Family members of DISA civilian, military personnel, and contractors.

Categories of records in the system:

Individual's name, duty title, grade, social security number, home address, name of spouse and family members, work/home/cellular telephone numbers, work and home electronic mail addresses, facsimile number, pager number (if applicable).

Authority for maintenance of the system:

5 U.S.C. 301, Departmental Regulation; 10 U.S.C. chp 8; DoD Directive 5105.19, Defense Information Systems Agency (DISA); E.O. 9397 (SSN).

Purpose(s):

Information is collected and maintained to ensure that DISA has the capability to recall personnel to their place of duty when required for operational reasons. Sure emergency notification may be required when necessary to perform relevant functions/requirements/actions consistent with the DISA mission.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the DISA's compilation of systems of records notices apply to this system.

Policies and practices for storing, retrieving, accessing, retaining, and disposing of records in the system:

Storage:

Paper records are maintained in file folders, index cards, Rolodex-type files, loose-leaf and bound notebooks. Computer files are maintained on magnetic tape, diskette, or other machine-readable media.

Retrievability:

Records are retrieved by Social Security Number and/or name of individual.

Safeguards:

Buildings are secured by guards during non-duty hours. Access to records is controlled by management personnel, who are responsible for maintaining the confidentiality of the records and using the information contained therein only for official purposes related to emergency notification. Access to computerized data is restricted by passwords.

Retention and disposal:

Records are continuously updated. Records that are no longer current are destroyed by tearing into pieces, shredding, pulping, or burning. Obsolete computer records are erased or overwritten.

System manager(s) and address:

Records Manager, SPI21, Defense Information Systems Agency, P.O. Box 4520, Arlington, VA 22204-4502.

Notification procedure:

Individuals seeking to determine whether information about themselves is contained in this system should address written inquiries to Records Manager, SPI21, Defense Information Systems Agency, P.O. Box 4520, Arlington, VA 22204-4502.

The individual should make reference to the office where he/she is/was assigned or affiliated and include address and telephone number applicable to the period during which the record was maintained. Social Security Number should be included in the inquiry for positive identification.

Record access procedures:

Individuals seeking access to information about themselves contained in this system should address written inquiries to Records Manager, SPI21, Defense Information Systems Agency, P.O. Box 4520, Arlington, VA 22204-4502.

The individual should make reference to the office where he/she is/was assigned or affiliated and include address and telephone number applicable to the period during which the record was maintained. Social Security Number should be included in the inquiry for positive identification.

Contesting record procedures:

DISA's rules for accessing records, for contesting contents and appealing initial agency determinations are published in DISA Instruction 210-225-2 at 32 CFR part 316 or may be obtained from the system manager.

Record source categories:

Individuals.

Exemptions claimed for the system:

None.

[FR Doc. 05-10215 Filed 5-20-05; 8:45 am]

BILLING CODE 5001-06-P